DEPARTMENT OF DEFENSE

GENERAL SERVICES ADMINISTRATION

NATIONAL AERONAUTICS AND SPACE ADMINISTRATION

48 CFR Chapter 1

[Docket No. FAR 2018-0001, Sequence No. 5]

Federal Acquisition Regulation: Federal Acquisition Circular 2005-101; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2005-101. A companion document, the Small Entity Compliance Guide (SECG), follows this FAC.

DATES: For effective dates see the separate documents, which follow.

ADDRESSES: The FAC, including the SECG, is available via the internet at http://www.regulations.gov.

FOR FURTHER INFORMATION CONTACT: The analyst whose name appears in the table below in relation to the FAR case. Please cite FAC 2005-101 and the specific FAR case number. For information pertaining to status or publication schedules, contact the Regulatory Secretariat Division at 202-501-4755.

Rules Listed in FAC 2005-101
Item | Subject | FAR case | Analyst
I | System for Award Management Registration | 2015-005 | C. Glover.
II | One Dollar Coins | 2018-009 | C. Glover.

SUPPLEMENTARY INFORMATION: Summaries for each FAR rule follow. For the actual revisions and/or amendments made by these rules, refer to the specific item numbers and subjects set forth in the documents following these item summaries. FAC 2005-101 amends the FAR as follows:

Item I—System for Award Management Registration (FAR Case 2015-005)

This final rule updates the instructions for registration in the System for Award Management (SAM) and corrects an inconsistency involving the timing of registration. In order to correct this inconsistency, the final rule amends FAR 4.1102, 4.1103, and 52.204-7 to require (with some exceptions) offeror registration in SAM prior to submission of an offer.

In addition, the rule requires contracting officers to use the name and physical address from the contractor's SAM registration for the provided “unique entity identifier”; removes the term “division name” from the FAR text at FAR 4.1102 and clause 52.204-13; and changes the referenced website “acquisition.gov” to “sam.gov” to be consistent with the rest of the FAR. It is not anticipated that the rule will have a significant economic impact on small entities, because the rule only clarifies that offerors must be registered in SAM prior to submission of an offer, which is already necessary in order to submit the required annual representations and certifications with the offer.

Item II—One Dollar Coins (FAR Case 2018-009)

This final rule amends the FAR to implement section 885 of the National Defense Authorization Act for Fiscal Year 2018 (Pub. L. 115-91). Section 885 amends 31 U.S.C. 5112(p) to provide an exception for business operations conducted by an entity under a Government contract from the requirements to accept and dispense $1 coins.

Contracting officers will no longer have to insert FAR clause 52.237-11, Accepting and Dispensing of $1 Coin, into solicitations and contracts.

Contractors providing services under Government contracts that involve business operations conducted in U.S. coins and currency will no longer be required to accept $1 coins.

The Regulatory Flexibility Act does not apply to this rule, because this final rule does not constitute a significant FAR revision within the meaning of FAR 1.501-1, and 41 U.S.C. 1707 does not require publication for public comment.

Dated: September 17, 2018.
William F. Clark,
Director, Office of Government-wide Acquisition Policy, Office of Acquisition Policy, Office of Government-wide Policy.

Federal Acquisition Circular (FAC) 2005-101 is issued under the authority of the Secretary of Defense, the Administrator of General Services, and the Administrator for the National Aeronautics and Space Administration.

Unless otherwise specified, all Federal Acquisition Regulation (FAR) and other directive material contained in FAC 2005-101 is effective September 26, 2018 except for items I and II, which are effective October 26, 2018.

Dated: September 18, 2018.

Linda W. Neilson,

Director, Defense Acquisition Regulations System.

Dated: September 18, 2018.

Jeffrey A. Koses,

Senior Procurement Executive/Deputy CAO, Office of Acquisition Policy, U.S. General Services Administration.

Dated: September 18, 2018.

William G. Roets, II,

Acting Assistant Administrator, Office of Procurement National Aeronautics and Space Administration.

[FR Doc. 2018-20705 Filed 9-25-18; 8:45 am]

BILLING CODE 6820-EP-P